DEPARTMENT OF VETERANS AFFAIRS

[OMB Control No. 2900-New]

Agency Information Collection Activities Under OMB Review

AGENCY: Office of Small and Disadvantaged Business Utilization, Department of Veterans Affairs.

ACTION: Notice.

SUMMARY: In compliance with the Paperwork Reduction Act (PRA) of 1995 (44 U.S.C. 3501-21), this notice announces that the Veterans Office of Small and Disadvantaged Business Utilization (OSDBU), Department of Veterans Affairs, has submitted the collection of information abstracted below to the Office of Management and Budget (OMB) for review and comment. The PRA submission describes the nature of the information collection and its expected cost and burden; it includes the actual data collection instrument.

DATES: Comments must be submitted on or before February 27, 2006.

FOR FURTHER INFORMATION OR A COPY OF THE SUBMISSION CONTACT: Denise McLamb, Information Management Service (005E3), Department of Veterans Affairs, 810 Vermont Avenue, NW., Washington, DC 20420, (202) 565-8374 or FAX (202) 565-6950 or e-mail: denise.mclamb@mail.va.gov. Please refer to “OMB Control No. 2900-New.”

Send comments and recommendations concerning any aspect of the information collection to VA's OMB Desk Officer, OMB Human Resources and Housing Branch, New Executive Office Building, Room 10235, Washington, DC 20503 (202) 395-7316. Please refer to “OMB Control No. 2900-New” in any correspondence.

SUPPLEMENTARY INFORMATION: Title: VetBiz Vendor Information Pages.

OMB Control Number: 2900-New.

Type of Review: New collection.

Abstract: The Vendor Information Pages (VIP) will be used to assist federal agencies in identifying small business owned and controlled by veterans and service-connected disable veterans. This information is necessary to ensure that veteran own businesses are given the opportunity to participate in Federal contractors and receive contract solicitations information automatically.

An agency may not conduct or sponsor, and a person is not required to respond to a collection of information unless it displays a currently valid OMB control number. The Federal Register Notice with a 60-day comment period soliciting comments on this collection of information was published on November 10, 2005 at page 68513.

Affected Public: Business or other for-profit and Individuals or households.

Estimated Annual Burden: 2,500 hours.

Estimated Average Burden Per Respondent: 25 minutes.

Frequency of Response: On occasion.

Estimated Number of Respondents: 6,000.

Dated: January 13, 2006.
By direction of the Secretary:
Denise McLamb,
Program Analyst, Records Management Service.

[FR Doc. E6-1012 Filed 1-25-06; 8:45 am]

BILLING CODE 8320-01-P